DEPARTMENT OF DEFENSE

Department of the Army

Privacy Act of 1974; System of Records

AGENCY: Department of the Army, DoD.

ACTION: Notice to amend a system of records.

SUMMARY: The Department of the Army is proposing to amend a system of records notice in its existing inventory of records systems subject to the Privacy Act of 1974, (5 U.S.C. 552a), as amended.

DATES: This proposed action will be effective without further notice on January 9, 2006, unless comments are received which result in a contrary determination.

ADDRESSES: Department of the Army, Freedom of Information/Privacy Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6497.

SUPPLEMENTARY INFORMATION: The Department of the Army systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: November 30, 2005.
L.M. Bynum,
OSD Federal Register Liaison Officer, Department of Defense.

A00025-55 AHRC

System name:

Freedom of Information Act Program Files (September 23, 2004, 69 FR 57005).

Changes:

* * * * *

System identifier:

Delete system identifier and replace with: “A0025-55 OAA”.

* * * * *

A0025-55 OAA

System name:

Freedom of Information Act Program Files.

System location:

Headquarters, Department of the Army, staff and field operating agencies, major commands, installations and activities receiving requets to access records pursuant to the Freedom of Information Act or to declassify documents pursuant to E.O. 12958, National Classified Security Information, as amended. Official mailing addresses are published as an apendix to the Army's compilation of record system notices.

Categories of individuals covered by the system:

Any individual who requests an Army record under the Freedom of Information Act, or requests mandatory review of a classified document pursuant to E.O. 12958, National Classified Security Information, as amended.

Categories of records in the system:

Individual's request, related papers, correspondence between office of receipt and records custodians, Army staff offices and other government agencies; retained copies of classified or other exempt materials; and other selective documents.

Authority for maintenance of the system:

5 U.S.C. 552, Freedom of Information Act, as amended by Pub. L. 93-502; 5 U.S.C. 301, Departmental Regulations, 10 U.S.C. 3013, Secretary of the Army; Army Regulation 25-55, The Department of the Army Freedom of Information Act Program; and E.O. 12958, National Classified Security Information, as amended.

Purpose(s):

To control administrative processing of requests for information either pursuant to the Freedom of Information Act or to E.O. 12958, National Classified Security Information, as amended, including appeals from denials.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders and electronic storage media.

Retrievability:

By requester's surname.

Safeguards:

All records are maintained in areas accessible only to authorized personnel who have official need in the performance of their assigned duties. Automated records are further protected by assignment of users identification and password to protect the system from unauthorized access. User identification and passwords are changed at random times.

Retention and disposal:

Records reflecting granted requests are destroyed after 2 years. When requests have been denied, records are retained for 6 years; and if appealed, records are retained 6 years after final denial by the Army or 3 years after final adjudication by the courts, whichever is later.

System manager(s) and address:

Director, U.S. Army Records Management and Declassification Agency, Freedom of Information/Privacy Division, 7701 Telegraph Road, Casey Building, Suite 144, Alexandria, VA 22315-3905.

Notification procedure:

Individuals seeking to determine if information about themselves is contained in this record system should address written inquiries to the Director, U.S. Army Records Management and Declassification Agency, Freedom of Information/Privacy Division, 7701 Telegraph Road, Casey Building, Suite 144, Alexandria, VA 22315-3905.

For verification purposes, individual should provide enough information to permit locating the record.

Record access procedures:

Individuals seeking access to records about themselves contained in this record system should address written inquiries to the Director, U.S. Army Records Management and Declassification Agency, Freedom of Information/Privacy Division, 7701 Telegraph Road, Casey Building, Suite 144, Alexandria, VA 22315-3905.

For verification purposes, individual should provide enough information to permit locating the record.

Contesting record procedures:

The Army's rules for accessing records, and for contesting contents and appealing initial agency determinations are published in Army Regulation 340-21; 32 CFR part 505; or may be obtained from the system manager.

Record source categories:

From the individual, Army organizations, Department of Defense components, and other federal, state, and local government agencies.

Exemptions claimed for the system:

During the course of a FOIA action, exempt materials from ‘other’ systems of records may in turn become part of the case records in this system. To the extent that copies of exempt records from those ‘other’ systems of records are entered into this FOIA case record, the Department of the Army hereby claims the same exemptions for the records from those ‘other’ systems that are entered into this system, as claimed for the original primary systems of records which they are a part.

An exemption rule for this system has been promulgated in accordance with requirements of 5 U.S.C. 553(b)(1), (2), and (3), (c) and (e) and published in 32 CFR part 505. For additional information contact the system manager.

[FR Doc. 05-23763 Filed 12-7-05; 8:45 am]

BILLING CODE 5001-06-M